DEPARTMENT OF TRANSPORTATION

Pipeline and Hazardous Materials Safety Administration

Hazardous Materials: Notice of Applications for Special Permits

AGENCY: Pipeline and Hazardous Materials Safety Administration (PHMSA), DOT.

ACTION: List of Applications for Special Permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 5, 2017.

ADDRESSES: You should address comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on July 28, 2017.
Donald Burger,
Chief, Office of the Special Permits and Approvals.

Application No. | Docket No. | Applicant | Regulation(s) affected | Nature of the special permits thereof
SPECIAL PERMITS DATA
20492-N |  | Exal Corporation | 178.33-7(a), 178.33a-7(a) | To authorize the transportation in commerce of 2P and 2Q receptacles with a minimum wall thickness less that what is required by the HMR. (Modes 1, 2, 3, 4, 5).
20493-N |  | Tesla, Inc | 172.101 Column (9B), 173.185(b) | To authorize the transportation in commerce of lithium ion batteries exceeding 35 kg net weight by cargo-only aircraft. (Mode 4).
20498-N |  | Lighting Resources, LLC | 172.101, 172.102(c), 172.301(c), 173.185(a)(1), 173.185(c), 173.185(d), 173.22(a) | To authorize the manufacture, marking, sale and use of specifically designed packagings for the transportation in commerce of certain batteries and cells without shipping papers, and certain marking and labeling when transported for recycling or disposal. (Modes 1, 2).
20501-N |  | Rota Aviation Company, LLC | 173.219(c)(5), 175.10(a)(11) | To authorize the transportation in commerce of life saving appliances aboard passenger-carrying aircraft by passenger and crew. (Mode 5).
20502-N |  | Spencer Composites Corporation | 173.302(a), 173.304(a) | To authorize the manufacture, mark, sale, and use of non-DOT specification cylinders for the transportation of certain hazardous materials in commerce. (Modes 1, 2, 3, 4).
20503-N |  | Dyno Nobel Inc | 177.835(a), 177.835(c)(3), 177.848(e)(2), 177.848(g)(3) | To authorize the transportation in commerce of certain oxidizing materials with certain Class 1 and Class 8 materials under alternative segregation requirements. (Mode 1).
20504-N |  | A123 Systems LLC | 172.101 Column (9B), 173.185(b) | To authorize the transportation in commerce of lithium ion batteries in excess of 35 kg net weight by cargo-only aircraft. (Mode 4).
20507-N |  | Energy, United States Dept of | 173.302(a) | To authorize the transportation in commerce of non-DOT specification cylinders containing compressed hydrogen. (Mode 1).
20511-N |  | Armotech s.r.o | 107.807(b)(1), 173.301(a)(1), 173.302(a)(1), 173.302(f)(1), 173.302(f)(2), 178.71(q), 178.71(t) | To authorize the transportation in commerce of non-DOT specification cylinders containing oxygen. (Modes 1, 2, 3, 4, 5).

[FR Doc. 2017-16445 Filed 8-3-17; 8:45 am]

BILLING CODE 4909-60-P